APPALACHIAN STATES LOW-LEVEL RADIOACTIVE WASTE COMMISSION

Annual Meeting

Time and Date: 10 a.m.-12 p.m. October 31, 2013.

Place: Harrisburg Hilton and Towers, One North Second Street, Harrisburg, PA 17101.

Status: The meeting will be open to the public.

Matters To Be Considered:

Portions Open To The Public: The primary purpose of this meeting is to

(1) Review the independent auditors' report of Commission's financial statements for fiscal year 2012-2013; (2) Review the Low-Level Radioactive Waste (LLRW) generation information for 2012; (3) Consider a proposed budget for fiscal year 2014-2015; (4) Review recent regional and national developments regarding LLRW management and disposal; and (5) Elect the Commission's Officers.

Portions Closed To The Public: Executive Session, if deemed necessary, will be announced at the meeting.

Contact Person For More Information: Rich Janati, Administrator of the Commission, at 717-787-2163.

Rich Janati,
Administrator, Appalachian Compact Commission.

[FR Doc. 2013-25670 Filed 10-25-13; 11:15 am]

BILLING CODE 0000-00-P